DEPARTMENT OF THE TREASURY

Agency Information Collection Activities; Submission for OMB Review; Comment Request; Multiple Departmental Offices Information Collection Requests

AGENCY: Departmental Offices, Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before July 22, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

1. Title: Request for Transfer of Property Seized/Forfeited by a Treasury Agency.

OMB Control Number: 1505-0152.

Type of Review: Extension without change of a currently approved collection.

Description: Form TD F 92-22.46 is necessary for State and Local Law Enforcement agencies to apply for the sharing of seized assets from the Treasury Forfeiture Fund after participating in joint investigations with the Federal government.

Form: TD F 92-22.46.

Affected Public: State and local law enforcement agencies.

Estimated Number of Respondents: 1,000.

Frequency of Response: On occasion.

Estimated Total Number of Annual Responses: 7,000.

Estimated Time per Response: 30 minutes.

Estimated Total Annual Burden Hours: 3,500.

2. Title: Generic Clearance for Improving Customer Experience (OMB Circular A-11, Section 280 Implementation).

OMB Control Number: 1505-0272.

Type of Review: Extension without change of a currently approved collection.

Description: On September 11, 1993, President Clinton issued Executive Order 12862, “Setting Customer Service Standards” which clearly define his vision that the Federal agencies will put the people first. Executive Order 12862 directs Federal agencies to provide service to the public that matches or exceeds the best service available in the private sector. Section 1(b) of Executive Order 12862 requires government agencies to “survey customers to determine the kind and quality of services they want and their level of satisfaction with existing services” and Section 1(e) requires agencies “survey front-line employees on barriers to, and ideas for, matching the best in business.”

On March 30, 2016, President Obama established the Core Federal Services Council, which again emphasized the need to deliver world-class customer service to the American people. The Council, composed of the major high-volume, high-impact Federal programs that provide transactional services directly to the public, were encouraged “to improve the customer experience by using public and private sector management best practices, such as conducting self-assessments and journey mapping, collecting transactional feedback data, and sharing such data with frontline and other staff.”

In March 2018, the Administration of President Trump launched the President's Management Agenda (PMA) and established new Cross-Agency Priority (CAP) Goals. Excellent service was established as a core component of the mission, service, stewardship model that frames the entire PMA, embedding a customer-focused approach in all of the PMA's initiatives. This model was also included in the 2018 update of the Federal Performance Framework in Circular A-11, ensuring `excellent service' as a focus in future agency strategic planning efforts. The PMA included a CAP Goal on Improving Customer Experience with Federal Services, with a primary strategy to drive improvements within 25 of the nation's highest impact programs. This effort is supported by an interagency team and guidance in Circular A-11 requiring the collection of customer feedback data and increasing the use of industry best practices to conduct customer research.

These Presidential actions and requirements establish an ongoing process of collecting customer insights and using them to improve services. This new request will enable the Department of Treasury to act in accordance with OMB Circular A-11 Section 280 to ultimately transform the experience of its customers to improve both efficiency and mission delivery, and increase accountability by communicating about these efforts with the public.

Form: None.

Affected Public: Businesses, individuals and state or local governments.

Estimated Number of Respondents: 2,001,550.

Frequency of Response: On occasion.

Estimated Total Number of Annual Responses: 2,001,550.

Estimated Time per Response: Varies. Feedback survey (3 minutes), User testing (15-30 minutes), Customer interviews (30 minutes), Focus groups (90 minutes).

Estimated Total Annual Burden Hours: 101,125.

Authority: 44 U.S.C. 3501 et seq.

Spencer W. Clark,
Treasury PRA Clearance Officer.

[FR Doc. 2024-13689 Filed 6-20-24; 8:45 am]

BILLING CODE 4810-AK-P